DEPARTMENT OF TRANSPORTATION

Federal Aviation Administration

14 CFR Part 39

[Docket No. FAA-2020-0349; Product Identifier 2020-NM-027-AD; Amendment 39-19906; AD 2020-09-10]

RIN 2120-AA64

Airworthiness Directives; Airbus Canada Limited Partnership (Type Certificate previously held by C Series Aircraft Limited Partnership (CSALP); Bombardier, Inc.) Airplanes

AGENCY: Federal Aviation Administration (FAA), Department of Transportation (DOT).

ACTION: Final rule; request for comments.

SUMMARY: The FAA is superseding Airworthiness Directive (AD) 2018-25-04, which applied to certain C Series Aircraft Limited Partnership (CSALP) Model BD-500-1A10 and BD-500-1A11 airplanes. AD 2018-25-04 required repetitive inspections for any dislodged blow-out panel in the forward and aft cargo compartments, reporting of the inspection findings, and reinstallation if necessary. This new AD continues to require repetitive inspections, with a revised inspection interval, for affected panels that have not been replaced. This new AD also requires the replacement of affected blow-out panels with redesigned panels, which terminates the inspection requirement. This new AD also revises the applicability by removing certain airplanes. This AD was prompted by reports of dislodged cargo compartment blow-out panels. The FAA is issuing this AD to address the unsafe condition on these products.

DATES: This AD is effective May 26, 2020.

The Director of the Federal Register approved the incorporation by reference of a certain publication listed in this AD as of May 26, 2020.

The Director of the Federal Register approved the incorporation by reference of certain other publications listed in this AD as of January 14, 2019 (83 FR 63397, December 10, 2018).

The FAA must receive comments on this AD by June 25, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact Airbus Canada Limited Partnership, 13100 Henri-Fabre Boulevard, Mirabel, Québec, J7N 3C6, Canada; telephone 450-476-7676; email a220_crc@abc.airbus; internet http://a220world.airbus.com. You may view this referenced service information at the FAA, Airworthiness Products Section, Operational Safety Branch, 2200 South 216th St., Des Moines, WA. For information on the availability of this material at the FAA, call 206-231-3195. It is also available on the internet at https://www.regulations.gov by searching for and locating Docket No. FAA-2020-0349.

Examining the AD Docket

You may examine the AD docket on the internet at https://www.regulations.gov by searching for and locating Docket No. FAA-2020-0349; or in person at the Docket Management Facility between 9 a.m. and 5 p.m., Monday through Friday, except Federal holidays. The AD docket contains this AD, any comments received, and other information. The street address for the Docket Operations office is listed above. Comments will be available in the AD docket shortly after receipt.

FOR FURTHER INFORMATION CONTACT: Darren Gassetto, Aerospace Engineer, Mechanical Systems and Admin Services Section, FAA, New York ACO Branch, 1600 Stewart Avenue, Suite 410, Westbury, NY 11590; telephone 516-228-7323; fax 516-794-5531; email 9-avs-nyaco-cos@faa.gov.

SUPPLEMENTARY INFORMATION:

Discussion

The FAA issued AD 2018-25-04, Amendment 39-19515 (83 FR 63397, December 10, 2018) (“AD 2018-25-04”), which applied to certain C Series Aircraft Limited Partnership (CSALP) Model BD-500-1A10 and BD-500-1A11 airplanes. AD 2018-25-04 was prompted by reports of dislodged cargo compartment blow-out panels. AD 2018-25-04 required repetitive inspections for any dislodged blow-out panel in the forward and aft cargo compartments, reporting of the inspection findings, and reinstallation if necessary. The FAA issued AD 2018-25-04 to address dislodged cargo compartment blow-out panels, which could result in openings in the forward and aft cargo compartments. In the event of a cargo compartment fire, these unintended openings in the forward and aft cargo compartments would provide a path for smoke, fire, and Halon to enter the adjacent equipment bays, flight deck, and passenger cabin, which could delay smoke detection in the forward and aft cargo compartments and result in the forward and aft cargo compartments not being able to maintain the Halon concentration required for fire suppression. The cargo compartment fire may become uncontrollable if this condition is not addressed, which could result in the loss of controllability of the airplane.

Actions Since AD 2018-25-04 Was Issued

Since the FAA issued AD 2018-25-04, the forward and aft cargo compartment sidewall and bulkhead panels have been redesigned to decrease the likelihood of cargo compartment blow-out panel dislodgement events due to baggage impact. This AD mandates incorporation of this redesign as terminating action to the requirements of AD 2018-25-04, and limits its applicability to airplanes that have not incorporated this redesign in production. This AD also extends the repeat cargo compartment blow-out panel inspection interval to reflect in-service findings. This AD also removes the requirement to report inspection findings.

Transport Canada Civil Aviation (TCCA), which is the aviation authority for Canada, has issued Canadian AD CF-2018-15R1, dated January 3, 2020 (referred to after this as the Mandatory Continuing Airworthiness Information, or “the MCAI”), to correct an unsafe condition for certain Airbus Canada Limited Partnership Model BD-500-1A10 and BD-500-1A11 airplanes. You may examine the MCAI in the AD docket on the internet at https://www.regulations.gov by searching for and locating Docket No. FAA-2020-0349.

This AD was prompted by reports of dislodged cargo compartment blow-out panels. The FAA is issuing this AD to address dislodged cargo compartment blow-out panels, which could, in the event of a cargo compartment fire, result in the loss of controllability of the airplane. See the MCAI for additional background information.

Related Service Information Under 1 CFR Part 51

Airbus Canada Limited Partnership has issued A220 Service Bulletin BD500-500001, Issue 002, dated October 28, 2019. This service information describes procedures for removing sidewall and bulkhead panel assemblies from the forward and aft cargo compartments, and installing new sidewall and bulkhead panel assemblies and placards.

This AD also requires the following service information, which the Director of the Federal Register approved for incorporation by reference on January 14, 2019 (83 FR 63397, December 10, 2018.)

• C Series (Bombardier) Data Module BD500-A-J50-10-01-00AAA-521A-A, “Decompression panels dislodging—Return to basic configuration,” Issue 002, dated May 16, 2018.

• C Series (Bombardier) Data Module BD500-A-J50-10-01-01AAA-310B-A, “Forward and aft cargo compartment blow-out panels—Visual check,” Issue 002, dated May 16, 2018.

This service information is reasonably available because the interested parties have access to it through their normal course of business or by the means identified in the ADDRESSES section.

FAA's Determination and Requirements of This AD

This product has been approved by the aviation authority of another country, and is approved for operation in the United States. Pursuant to the FAA's bilateral agreement with the State of Design Authority, the FAA has been notified of the unsafe condition described in the MCAI and service information referenced above. The FAA is issuing this AD because the FAA evaluated all pertinent information and determined the unsafe condition exists and is likely to exist or develop on other products of the same type design.

Clarification of Affected Airplanes

Although Airbus Canada Limited Partnership Model BD-500-1A10 and BD-500-1A11 airplanes are on the U.S. Register, currently no airplanes operating in the U.S. are equipped with blow-out panel part number D762213-503, D762216-505, or D762209-503.

FAA's Justification and Determination of the Effective Date

Since there are currently no domestic operators of this product with affected parts, notice and opportunity for public comment before issuing this AD are unnecessary. Therefore, the FAA finds good cause that notice and opportunity for prior public comment are unnecessary. In addition, for the reason(s) stated above, the FAA finds that good cause exists for making this amendment effective in less than 30 days.

Comments Invited

This AD is a final rule that involves requirements affecting flight safety, and the FAA did not precede it by notice and opportunity for public comment. The FAA invites you to send any written relevant data, views, or arguments about this AD. Send your comments to an address listed under the ADDRESSES section. Include “Docket No. FAA-2020-0349; Product Identifier 2020-NM-027-AD” at the beginning of your comments. The FAA specifically invites comments on the overall regulatory, economic, environmental, and energy aspects of this AD. The FAA will consider all comments received by the closing date and may amend this AD because of those comments.

The FAA will post all comments received, without change, to https://www.regulations.gov, including any personal information you provide. The FAA will also post a report summarizing each substantive verbal contact received about this AD.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

Currently, there are no affected U.S.-registered airplanes. If an affected airplane is imported and placed on the U.S. Register in the future, the FAA provides the following cost estimates to comply with this AD:

Estimated Costs for Required Actions
Action | Labor cost | Parts cost | Cost per product
Retained actions from AD 2018-25-04 | 1 work-hour × $85 per hour = $85 | $0 | $85
New actions | 8 work-hours × $85 per hour = $680 | 62,561 | 63,241

The FAA estimates the following costs to do any necessary on-condition action that would be required based on the results of any required actions. The FAA has no way of determining the number of aircraft that might need this on-condition action:

Estimated Costs of On-Condition Actions
Labor cost | Parts cost | Cost per product
2 work-hours × $85 per hour = $170 | $0 | $170

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2018-25-04, Amendment 39-19515 (83 FR 63397, December 10, 2018), and adding the following new AD:

2020-09-10 Airbus Canada Limited Partnership (Type Certificate previously held by C Series Aircraft Limited Partnership (CSALP); Bombardier, Inc.): Amendment 39-19906; Docket No. FAA-2020-0349; Product Identifier 2020-NM-027-AD.

(a) Effective Date

This AD is effective May 26, 2020.

(b) Affected ADs

This AD replaces AD 2018-25-04, Amendment 39-19515 (83 FR 63397, December 10, 2018) (“AD 2018-25-04”).

(c) Applicability

This AD applies to Airbus Canada Limited Partnership (Type Certificate previously held by C Series Aircraft Limited Partnership (CSALP); Bombardier, Inc.) airplanes, certificated in any category, identified in paragraphs (c)(1) and (2) of this AD.

(1) Model BD-500-1A10 airplanes, serial numbers 50001 through 50017 inclusive, equipped with blow-out panel part number D762213-503, D762216-505, or D762209-503.

(2) Model BD-500-1A11 airplanes, serial numbers 55001 through 55044 inclusive, equipped with blow-out panel part number D762213-503, D762216-505, or D762209-503.

(d) Subject

Air Transport Association (ATA) of America Code 50, Cargo and accessory compartment.

(e) Reason

This AD was prompted by reports of dislodged cargo compartment blow-out panels. This AD was also prompted by a panel redesign that decreases the likelihood of dislodgement due to baggage impact, and by the determination that the repetitive inspection interval may be extended, based on in-service findings. The FAA is issuing this AD to address dislodged cargo compartment blow-out panels, which could result in openings in the forward and aft cargo compartments. In the event of a cargo compartment fire, these unintended openings in the forward and aft cargo compartments would provide a path for smoke, fire, and Halon to enter the adjacent equipment bays, flight deck, and passenger cabin, which could delay smoke detection in the forward and aft cargo compartments and result in the forward and aft cargo compartments not being able to maintain the Halon concentration required for fire suppression. The cargo compartment fire may become uncontrollable if this condition is not addressed, which could result in the loss of controllability of the airplane.

(f) Compliance

Comply with this AD within the compliance times specified, unless already done.

(g) Retained Repetitive Inspections of the Forward and Aft Cargo Compartment Blow-Out Panels and Re-Installation, With Revised Repetitive Inspection Interval

This paragraph restates the requirements of paragraph (g) of AD 2018-25-04, with a revised repetitive inspection interval. Within 7 days or 50 flight cycles, whichever occurs first, after January 14, 2019 (the effective date of AD 2018-25-04): Do a detailed inspection for any dislodged blow-out panel in the forward and aft cargo compartments, in accordance with C Series (Bombardier) Data Module BD500-A-J50-10-01-01AAA-310B-A, “Forward and aft cargo compartment blow-out panels—Visual check,” Issue 002, dated May 16, 2018. Re-install all dislodged forward and aft cargo compartment blow-out panels before further flight, in accordance with C Series (Bombardier) Data Module BD500-A-J50-10-01-00AAA-521A-A, “Decompression panels dislodging—Return to basic configuration,” Issue 002, dated May 16, 2018. Thereafter, at intervals not to exceed 200 flight cycles, repeat the detailed inspection for any dislodged blow-out panel in the forward and aft cargo compartments.

(h) New Requirement of This AD: Blow-Out Panel Replacement

Within 9,350 flight hours or 56 months, whichever occurs first, after the date of issuance of the original airworthiness certificate or date of issuance of the original export certificate of airworthiness: Install new, redesigned sidewall and bulkhead panel assemblies in the forward and aft cargo compartments, in accordance with Airbus Canada Limited Partnership A220 Service Bulletin BD500-500001, Issue 002, dated October 28, 2019.

(i) No Reporting Requirement

Although reporting was required in AD 2018-25-04, this AD does not include that requirement.

(j) New Terminating Action for Repetitive Inspections

Modification of an airplane as required by paragraph (h) of this AD constitutes terminating action for the initial and repetitive inspections required by paragraph (g) of this AD for that airplane.

(k) Credit for Previous Actions

This paragraph provides credit for actions required by paragraph (h) of this AD, if those actions were performed before the effective date of this AD using Bombardier C Series Service Bulletin BD500-500001, Issue 001, dated February 18, 2019.

(l) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain instructions from a manufacturer, the instructions must be accomplished using a method approved by the Manager, New York ACO Branch, FAA; or Transport Canada Civil Aviation (TCCA); or Airbus Canada Limited Partnership's TCCA Design Approval Organization (DAO). If approved by the DAO, the approval must include the DAO-authorized signature.

(m) Related Information

(1) Refer to Mandatory Continuing Airworthiness Information (MCAI) Canadian AD CF-2018-15R1, dated January 3, 2020, for related information. This MCAI may be found in the AD docket on the internet at https://www.regulations.gov by searching for and locating Docket No. FAA-2020-0349.

(2) For more information about this AD, contact Darren Gassetto, Aerospace Engineer, Mechanical Systems and Admin Services Section, FAA, New York ACO Branch, 1600 Stewart Avenue, Suite 410, Westbury, NY 11590; telephone 516-228-7323; fax 516-794-5531; email 9-avs-nyaco-cos@faa.gov.

(3) Service information identified in this AD that is not incorporated by reference is available at the addresses specified in paragraphs (n)(5) and (6) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 26, 2020.

(i) Airbus Canada Limited Partnership A220 Service Bulletin BD500-500001, Issue 002, dated October 28, 2019.

(ii) [Reserved]

(4) The following service information was approved for IBR on January 14, 2019 (83 FR 63397, December 10, 2018).

(i) C Series (Bombardier) Data Module BD500-A-J50-10-01-00AAA-521A-A, “Decompression panels dislodging—Return to basic configuration,” Issue 002, dated May 16, 2018.

(ii) C Series (Bombardier) Data Module BD500-A-J50-10-01-01AAA-310B-A, “Forward and aft cargo compartment blow-out panels—Visual check,” Issue 002, dated May 16, 2018.

(5) For service information identified in this AD, contact Airbus Canada Limited Partnership, 13100 Henri-Fabre Boulevard, Mirabel, Québec, J7N 3C6, Canada; telephone 450-476-7676; email a220_crc@abc.airbus; internet http://a220world.airbus.com.

(6) You may view this service information at the FAA, Transport Standards Branch, 2200 South 216th St., Des Moines, WA. For information on the availability of this material at the FAA, call 206-231-3195.

(7) You may view this service information that is incorporated by reference at the National Archives and Records Administration (NARA). For information on the availability of this material at NARA, email fedreg.legal@nara.gov, or go to: https://www.archives.gov/federal-register/cfr/ibr-locations.html.

Issued on April 28, 2020.
Lance T. Gant,
Director, Compliance & Airworthiness Division, Aircraft Certification Service.

[FR Doc. 2020-09946 Filed 5-8-20; 8:45 am]

BILLING CODE 4910-13-P